DEPARTMENT OF THE INTERIOR

Closure Order Establishing Prohibitions at Folsom Lake, CA

AGENCY: Bureau of Reclamation, Interior.

ACTION: Notice of closure.

SUMMARY: The Bureau of Reclamation (Reclamation) is restricting access to several dikes and dams that were constructed to form Folsom Lake. The closure notice affects the following structures: the concrete gravity dam, the right wing dam, the left wing dam, dikes 4, 5, 6, 7, & 8; and Mormon Island Dam. The closure affects the dikes and dams in their entirety.

DATES: The closure is effective February 28, 2003, and will remain in effect indefinitely.

ADDRESSES: A map is available for inspection at the Bureau of Reclamation's Central California Area Office, located at 7794 Folsom Dam Road, Folsom, California 95630. The map may be viewed between the hours of 8 a.m. and 4 p.m., Monday through Friday.

FOR FURTHER INFORMATION CONTACT: Bureau of Reclamation, Mid-Pacific Region Public Affairs Office at (916) 978-5100 or the Bureau of Reclamation, Central California Area Office at (916) 988-1707.

SUPPLEMENTARY INFORMATION: This action is being taken under 43 CFR Part 423.3 to improve facility security and public safety. Reclamation will be prohibiting motor vehicle access and in some locations pedestrian access to the structures in an effort to prevent activities that may inadvertently or deliberately cause damage to the structures. The following acts are prohibited in the closure areas:

(a) Operating a motor vehicle on the crest of the structures or any part thereof.

Exceptions: Reclamation employees acting within the scope of their employment, operation, maintenance and construction personnel that have expressed authorization from Reclamation; law enforcement and fire department officials, and any others who have received expressed written authorization from the Bureau of Reclamation to enter the closure areas.

(b) Pedestrian Access on the left wing dam and the concrete gravity section of the dam.

Exceptions: Reclamation employees acting within the scope of their employment, operation, maintenance and construction personnel that have expressed authorization from Reclamation; law enforcement and fire department officials, and any others who have received expressed written authorization from the Bureau of Reclamation to enter the closure areas.

(c) Vandalism or destroying, injuring, defacing, or damaging property or real property that is not under one's lawful control or possession.

This order is posted in accordance with 43 CFR 423.3(b). Violation of this prohibition or any prohibition listed in 43 CFR part part 423 is punishable by fine, or imprisonment for not more than 6 months, or both.

Dated: March 5, 2003.
Thomas J. Aiken,
Area Manager, Central California Area Office, Mid-Pacific Region.

[FR Doc. 03-5852 Filed 3-11-03; 8:45 am]

BILLING CODE 4310-MN-P